DEPARTMENT OF COMMERCE

United States Patent and Trademark Office

[Docket No.: PTO-C-2011-0041]

Extension of the Application Deadline for Humanitarian Awards Pilot Program

AGENCY: United States Patent and Trademark Office, Commerce.

ACTION: Notice.

SUMMARY: In February 2012, the United States Patent and Trademark Office (USPTO) announced the Humanitarian Awards Pilot Program, which recognizes patent holders who use their technology for humanitarian purposes. In response to stakeholder feedback, the USPTO is extending the deadline for applications to the Humanitarian Awards Pilot Program by two months until October 31, 2012, to allow potential applicants more time to complete their applications.

DATES: Effective Date: August 17, 2012.

FOR FURTHER INFORMATION CONTACT: Office of Policy and External Affairs, by telephone at (571) 272-9300; or by mail addressed to: Patents for Humanity Program, Office of Policy and External Affairs, United States Patent and Trademark Office, P.O. Box 1450, Alexandria, VA 22313-1450; or by email to patentsforhumanity@uspto.gov.

SUPPLEMENTARY INFORMATION: In February, the USPTO initiated a pilot program which recognizes patent holders who use their technology for humanitarian purposes, called the Humanitarian Awards Pilot Program (“the Pilot”, also known as Patents for Humanity). See Humanitarian Awards Pilot Program, 77 FR 6544 (Feb. 8, 2012). The original deadline for applications to the Pilot was August 31, 2012, with selection and awards to follow.

While conducting outreach to our user community we have received much feedback on the Pilot, including a number of requests to extend the deadline for filing applications past August 31. Among the reasons given, applicants have said that they are engaged in qualifying work which will not be complete before the deadline; or they do not have enough time to complete an application before the deadline.

In response to these requests, the USPTO is extending the application deadline for the Humanitarian Awards Pilot Program until October 31, 2012. After the application deadline, selections will be made as described in the February notice, with the goal of completing the recommendation process within 90 days. Awards will be made thereafter. The other terms of the program remain unchanged.

Dated: August 13, 2012.
David J. Kappos,
Under Secretary of Commerce for Intellectual Property and Director of the United States Patent and Trademark Office.

[FR Doc. 2012-20242 Filed 8-16-12; 8:45 am]

BILLING CODE 3510-16-P